POSTAL REGULATORY COMMISSION

[Docket No. MC2009-29; Order No. 215]

New Postal Product

AGENCY: Postal Regulatory Commission.

ACTION: Notice.

SUMMARY: The Commission is noticing a recently-filed Postal Service request to amend an earlier filing concerning the addition of Address Management Services to the Mail Classification Schedule. The amendment affects a Move Update service. This notice addresses procedural steps associated with this filing.

DATES: Comments are due May 19, 2009.

ADDRESSES: Submit comments electronically via the Commission's Filing Online system at http://www.prc.gov.

FOR FURTHER INFORMATION CONTACT: Stephen L. Sharfman, General Counsel, 202-789-6820 and stephen.sharfman@prc.gov.

SUPPLEMENTARY INFORMATION: Regulatory History, 74 FR 15784 (April 7, 2009).

On May 8, 2009, the Postal Service filed a notice of an amendment to its March 10, 2009 request to add Address Management Services to the Mail Classification Schedule (MCS) as a market dominant product.¹ The Postal Service states that the amendment is occasioned by recent developments regarding the manner in which FASTforward® Move Update Notification (FFMUN) will be offered as a component of Address Management Services.² Effective June 1, 2009, FFMUN will no longer be offered as a stand-alone component of Address Management Services, but will, instead, be included in the existing FASTforward MLOCR service with no change in the annual fee for FASTforward MLOCR service. There will no longer be a separate charge for FFMUN service.

¹ Notice of the United States Postal Service of Amendment to Its Request to Add Postal Products to the Mail Classification Schedule in Response to Order No. 154, May 8, 2009 (Amendment). Included as part of the Amendment are revised pages 4 and 8 to Attachment A to the Postal Service's initial filing in this docket. Address Management Services is one of seven postal services that the Postal Service has proposed to add to the MCS in this proceeding. The Commission's notice and order of the Postal Service's initial filing was issued on March 30, 2009. PRC Order No. 198, Notice and Order Concerning Request to Add Seven Postal Services to the Mail Classification Schedule Product Lists, March 30, 2009 (Order No. 198). Comments on the initial request have been received and are currently under review by the Commission.

² Address Management Services was one of the products proposed in its March 10, 2009 filing to add to the Market Dominant Product List. Order No. 198 at 3.

The Postal Service states that notice of the proposed changes has already been given to FASTforward licensees through the Postal Service's RIBBS Web site at http://www.usps.com and at the National Association of Presort Mailers conference.

The Commission will review the request and the comments of interested parties and may approve the request, institute further proceedings, permit the Postal Service to modify the request, or take other appropriate action under rule 3020.34.

In Order No. 198, the Commission appointed Robert Sidman to serve as the Public Representative in this proceeding. Mr. Sidman will continue to represent the interests of the general public with respect to the Amendment.

Pursuant to rule 3020.33, the Commission provides interested persons an opportunity to express views and offer comments on whether the planned modifications are consistent with the policies of 39 U.S.C. 3622 and 3642. Comments are due no later than May 19, 2009.

It is Ordered:

1. Comments on the Amendment are due no later than May 19, 2009.

2. The Secretary shall arrange for publication of this order in the Federal Register.

By the Commission.
Steven W. Williams,
Secretary.

[FR Doc. E9-11682 Filed 5-19-09; 8:45 am]

BILLING CODE 7710-FW-P